DEPARTMENT OF LABOR

Employment and Training Administration

[TA-W-51,563]

OmniGlow Corporation, West Springfield, MA; Notice of Termination of Investigation

Pursuant to section 221 of the Trade Act of 1974, as amended, an investigation was initiated on April 22, 2003 in response to a petition filed by a company official on behalf of workers at OmniGlow Corporation, West Springfield, Massachusetts.

The petitioner has requested that the petition be withdrawn. Consequently, the investigation has been terminated.

Signed at Washington, DC, this 13th day of May, 2003.
Linda G. Poole,
Certifying Officer, Division of Trade Adjustment Assistance.

[FR Doc. 03-13406 Filed 5-28-03; 8:45 am]

BILLING CODE 4510-30-P